DEPARTMENT OF HEALTH AND HUMAN SERVICES

Centers for Disease Control and Prevention

[30Day-12-12EX]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC 20503 or by fax to (202) 395-5806. Written comments should be received within 30 days of this notice.

Proposed Project

Formative Research for the Development of CDC's Act Against AIDS Social Marketing Campaigns Targeting Consumers—New—National Center for HIV/AIDS, Viral Hepatitis, STD, and TB Prevention (NCHHSTP), Centers for Disease Control and Prevention (CDC).

Background and Brief Description

The purpose of this study is to conduct interviews and focus groups in four rounds of data collections (exploratory research, message testing, concept testing, materials testing) with consumer groups aged 18 to 64 over a 3-year period to develop various social marketing campaigns aimed at increasing HIV testing rates, increasing HIV awareness and knowledge, challenging commonly held misperceptions about HIV, and promoting HIV prevention and risk reduction. The research results will be used to develop materials for six specific HIV social marketing campaigns under the umbrella of the larger Act Against AIDS campaign. The target audience for the campaigns include the following populations, all ages 18-64 years old: (1) General U.S. population, with an emphasis on African Americans and Latinos; (2) men who have sex with men (MSM), with an emphasis on Latino MSM; and (3) HIV+ individuals.

The study will screen 2338 people per year for eligibility. Of the 2338 people screened, it is expected that 500 people will participate in focus groups, 500 people will participate in in-depth interviews and 700 will participate in intercept interviews. All focus group and in-depth interview participants (total 1000) will complete a brief paper and pencil survey. The total estimated annual burden hours are 2311.

There are no costs to the respondents other than their time.

Estimated Annualized Burden Hours
Respondents | Form name | Number of respondents | Number of responses per respondent | Average burden per response (in hours)
Individuals (males and females) aged 18-64 | Study screener | 2338 | 1 | 2/60
Individuals (males and females) aged 18-64 | In-Depth Interview Guide | 500 | 1 | 1
Individuals (males and females) aged 18-64 | Focus Group Guide | 500 | 1 | 2
Individuals (males and females) aged 18-64 | Paper and Pencil Survey | 1000 | 1 | 30/60
Individuals (males and females) aged 18-64 | Intercept Interview Guide | 700 | 1 | 20/60

Kimberly S. Lane,
Deputy Director, Office of Science Integrity, Office of the Associate Director for Science, Office of the Director, Centers for Disease Control and Prevention.

[FR Doc. 2012-20213 Filed 8-16-12; 8:45 am]

BILLING CODE 4163-18-P